DEPARTMENT OF THE INTERIOR

National Park Service

Notice of Availability of Draft General Management Plan/Environmental Impact Statement for Lincoln Home National Historic Site, Il

SUMMARY: Pursuant to Section 102(2)(C) of the National Environmental Policy Act of 1969, 42 U.S.C. 4332(2)(c), the National Park Service (NPS) announces the availability of a draft General Management Plan/Environmental Impact Statement (GMP/EIS) for Lincoln Home National Historic Site, Illinois.

DATES: The draft GMP/EIS will remain available for public review for 60 days following the publishing of the notice of availability in the Federal Register by the U.S. Environmental Protection Agency. Public meetings will be held during the 60-day review period on the GMP/EIS in Springfield, Illinois, in summer 2010.

You may submit your comments by any one of several methods. You may comment via the Internet through the national planning site at http://www.parkplanning.nps.gov/liho. You may mail comments to Superintendent, Lincoln Home National Historic Site, 413 South Eighth Street, Springfield, Illinois 62701-1905. You may contact the Superintendent by facsimile at 217-492-4673. Finally, you may hand-deliver comments to the Lincoln Home National Historic Site headquarters at the address above.

ADDRESSES: Copies of the draft GMP/EIS are available from the Superintendent, 413 South Eighth Street, Springfield, Illinois 62701-1905.

SUPPLEMENTARY INFORMATION: This GMP/EIS will guide the management of the Lincoln Home National Historic Site for the next 20 years. The draft GMP/EIS considers four draft conceptual alternatives—a no-action and three action alternatives, including the NPS preferred alternative. The draft GMP/EIS assesses impacts to cultural resources, visitor opportunities and use, socioeconomics, and NPS operations.

The NPS preferred alternative focuses on rehabilitating the historic landscape to offer visitors a strong sense of the neighborhood as Lincoln knew it. This goal would be accomplished by extensive rehabilitation at the core of the site, but less extensive away from the core. The Lincoln lot would be restored if there is sufficient documentation.

FOR FURTHER INFORMATION CONTACT: Contact Superintendent, Lincoln Home National Historic Site, at the address or telephone number above.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: April 30, 2010.
Ernest Quintana,
Regional Director, Midwest Region.

[FR Doc. 2010-13232 Filed 6-1-10; 8:45 am]

BILLING CODE P